DEPARTMENT OF ENERGY

Energy Information Administration

Agency Information Collection Activities: Proposed Collection; Comment Request

AGENCY: Energy Information Administration (EIA), Department of Energy (DOE).

ACTION: Agency information collection activities: Proposed collection; comment request.

SUMMARY: The EIA is soliciting comments on the proposed new surveys, EIA-911A-C (Supplement), “Biweekly Surveys to Assess Effects of Interruptions of Natural Gas Supplies in the Northeast United States.”

DATES: Comments must be filed on or before April 9, 2001. If you anticipate difficulty in submitting comments within that period, contact the person listed below as soon as possible.

ADDRESSES: Send comments to William Trapmann, (EI-44), ATTN: Form EIA-911, Forrestal Building, U.S. Department of Energy, Washington, DC 20585. Alternatively, Mr. Trapmann may be reached by telephone at 202-586-6408, by FAX at 202-586-4420 or by e-mail at william.trapmann@eia.doe.gov.

FOR FURTHER INFORMATION CONTACT: Requests for additional information or a copy of the forms and instructions should be directed to Mr. Trapmann at the address listed above.

SUPPLEMENTARY INFORMATION:

I. Background

II. Current Actions

III. Request for Comments

I. Background

The Federal Energy Administration Act of 1974 (FEA Act) (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. To carry out this program, section 13(b) of the FEA Act (15 U.S.C. 772(b)) states that “All persons owning or operating facilities or business premises who are engaged in any phase of energy supply or major energy consumption shall make available to the (Administrator) such information and periodic reports, records, documents, and other data, relating to the purposes of this Act, * * *”

Under the authorities granted, EIA conducts mandatory surveys of companies involved in energy supply and consumption. EIA's current surveys of energy suppliers include monthly surveys of petroleum product resellers and retailers, electric power supply and marketing companies, and natural gas supply companies. Collecting information from all types of energy supply companies provides EIA with information used to accurately estimate energy prices and quantities. Users of EIA's information include analysts in Federal, State, and local governments, as well as analysts in energy trade associations, energy companies, the media, consultants, and other private organizations.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under section 3507(a) of the Paperwork Reduction Act of 1995.

In order to assess the interactions of the natural gas and distillate energy markets in the Northeast during the winter 2000/2001 heating season and to answer questions on the effects that “fuel-switching” customers (i.e., those that switch between natural gas and distillate) have on demand and market prices, EIA needs to collect information that is currently not available. An emergency clearance request was submitted to OMB on December 26, 2000, requesting OMB approval by January 3, 2001, to use the following three surveys to obtain biweekly data for the seven-week period, January 1, 2001, through April 8, 2001. OMB approved this request on January 8, 2001. In order for EIA to analyze data for the entire winter 2000/2001 heating season, EIA needs similar data for the October through December 2000 period.

• Form EIA-911A (Supplement), “Biweekly Gas Supplier Survey” EIA will collect information on a biweekly basis from a sample of natural gas suppliers in the Northeast regarding deliveries and interruptions of service for the October through December 2000 period. For each two-week period, data will be collected on deliveries (firm, non-firm); interruptions (volumes and days interrupted, both firm and non-firm); and customers interrupted.

• Form EIA-911B (Supp.), “Biweekly Petroleum Product Suppliers Sales Report” For the October through December 2000 period, EIA will collect information on a biweekly basis from petroleum product suppliers in the Northeast regarding customers serviced; volumes (gallons) sold by product to customers with fuel-switching capabilities; total retail and wholesale volumes sold by product, and beginning and ending secondary-system inventories by product.

• Form EIA-911C (Supplement), “Biweekly Natural Gas And Petroleum Customer Survey.”

For the October through December 2000 period, EIA will collect information on a biweekly basis from Northeast energy customers with fuel-switching capabilities regarding total natural gas and natural gas deliveries; involuntary interruptions of natural gas deliveries (firm/non-firm); substitutions of petroleum products as fuel in place of natural gas; and inventories of distillate fuel oil and other fuels.

II. Current Actions

EIA will be requesting a one-time OMB approval for the three surveys through August 31, 2001, to collect data for seven two-week periods (September 24, 2000 through December 31, 2000).

III. Request for Comments

Prospective respondents and other interested parties should comment on the actions discussed in item II. The following guidelines are provided to assist in the preparation of comments.

General Issues

A. Are the proposed collections of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Reporting burden is estimated to average:

EIA-911A (Supp.) = 2 hours per two-week reporting period,

EIA-911B (Supp.) = 1 hour per two-week reporting period, and

EIA-911C (Supp.) = 2 hours per two-week reporting period.

The estimated burden includes the total time necessary to provide the requested information. In your opinion, how accurate are the burden estimates?

D. EIA estimates that the only cost to a respondent is for the time it will take to prepare for and complete the surveys. Will a respondent incur any other start-up costs for reporting, or any recurring annual costs for operation, maintenance, and purchase of services associated with the information collection?

E. What additional actions could be taken to minimize the burden of these collections of information? Such actions may involve the use of automated, electronic, mechanical, or other technological collection techniques or other forms of information technology.

F. Does any other Federal, State, or local agency collect similar information that would be useful for developing the accurate and independent natural gas data that would be available from the proposed survey? If so, specify the agency, the data element(s), the methods of collection, and the name and phone number of someone that EIA may contact for additional information.

As a Potential User of the Information to be Collected

A. Is the information useful at the levels of detail to be collected?

B. For what purpose(s) would the information be used? Be specific.

C. Are there alternate sources for the information and are they useful? If so, please specify the sources and their weaknesses and/or strengths?

Comments submitted in response to this notice will be summarized and/or included in the request for OMB approval of the form. The comments also will become a matter of public record.

Statutory Authority: Section 3506(c)(2)(A) of the Paperwork Reduction Act of 1995 (Pub. L. 104-13, 44 U.S.C. Chapter 35).

Issued in Washington, DC, January 31, 2001.
Jay H. Casselberry,
Agency Clearance Officer, Statistics and Methods Group, Energy Information Administration.

[FR Doc. 01-3055 Filed 2-5-01; 8:45 am]

BILLING CODE 6450-01-P